DEPARTMENT OF HOUSING AND URBAN DEVELOPMENT

[Docket No. FR-7060-N-03]

60-Day Notice of Proposed Information Collection: Family Options Study 12-Year Follow-Up: Survey Data Collection, OMB Control No.: 2528-0259

AGENCY: Office of the Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 27, 2022.

ADDRESSES: Interested persons are invited to submit comments regarding this proposal. Comments should refer to the proposal by name and/or OMB Control Number and should be sent to: Anna P. Guido, Reports Management Officer, REE, Department of Housing and Urban Development, 451 7th Street SW, Room 8210, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410-5000; email Anna P. Guido at Anna.P.Guido@hud.gov or telephone 202-402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Family Options Study 12-Year Follow-up: Survey Data Collection.

OMB Approval Number: 2528-0259.

Type of Request: Revision of a currently approved collection.

Form Number: N/A.

Description of the need for the information and proposed use: The purpose of this proposed information collection is to administer a 12-Year Follow-up Survey with the families that enrolled in the U.S. Department of Housing and Urban Development's (HUD) Family Options Study between September 2010 and January 2012.

The Family Options Study is a multi-site experiment designed to test the impacts of different housing and service interventions on homeless families in five key domains: Housing stability, family preservation, adult well-being, child well-being, and self-sufficiency. Both the design and the scale of the study provide a strong basis for conclusions about the relative impacts of the interventions over time, and data collected at two previous points in time, twenty (20) months after random assignment and thirty-seven (37) months after random assignment, yielded powerful evidence regarding the positive impact of providing a non-time-limited housing subsidy to a family experiencing homelessness. It is possible, though, that some effects of the various interventions might change over time or take longer to emerge, particularly for child well-being. Therefore, HUD plans to conduct a follow up survey of study families roughly twelve years after enrollment into the study. The 12-Year Follow-up Survey will attempt to collect information from three separate samples: (1) The 2,241 heads of household who originally enrolled in the study, (2) a sample of 2,220 young children between the ages of 10-17 who currently reside with the head of households, and (3) a new sample of 1,831 “adult children” who consist of the young adults who were minor children during the base study period, but who have aged into adulthood over the past twelve years.

This Federal Register Notice provides an opportunity to comment on the data collection instruments and associated materials to be administered to the families enrolled in the Family Options Study.

Respondents: Adults and children who are members of the families enrolled in the Family Options Study.

Estimated Number of Respondents: 6,292 respondents (2,241 adult heads of household; 2,220 children ages 10-17; and 1,831 adult children ages 18-30).

Frequency of Response: Once.

Average Hours per Response: Completion the Adult Head of Household Survey is expected to take on average one hour, with the consent form taking an additional 10 minutes or .16 hours per respondent and the Parent Permission Form taking an additional 10 minutes or .16 hours per respondent. Completion of the Child Assent Form will take roughly ten minutes or .16 hours on average and the Child Survey will take 30 minutes on average to complete. Engagement with the adult child sample will take roughly 30 minutes—10 minutes for the enrollment call, 10 minutes for the Adult Child Consent Form, and 10 minutes to explain and complete the Adult Child Information release form. The web-based Adult Child Survey will take approximately 15 minutes to complete per respondent on average.

Total Estimated Burden Hours: 5760.2 hours.

Annualized Burden Table
Information collection | Number of respondents | Frequency of response | Responses per annum | Burden hour per response | Annual burden hours | Hourly cost per response | Cost
Adult Head of Household
Adult Head of Household Consent Form | 2,241 | 1 | 1 | .16 | 358.56 | $10.15 | $3,639.38
Parent Permission Form | 2,241 | 1 | 1 | .16 | 358.56 | 10.15 | 3,639.38
Adult Head of Household Survey | 2,241 | 1 | 1 | 1 | 2,241 | 10.15 | 22,746.15
Child (10-17)
Child Survey (ages 10-17) Assent Form | 2,220 | 1 | 1 | .16 | 355.20 | NA |
Child Survey (ages 10-17) | 2,220 | 1 | 1 | .5 | 1,110 | NA |
Adult Child (18-30)
Adult Child Enrollment Call (ages 18-30) | 1,831 | 1 | 1 | .16 | 292.96 | 10.15 | 2,973.54
Adult Child Consent Form (ages 18-30) | 1,831 | 1 | 1 | .16 | 292.96 | 10.15 | 2,973.54
Adult Child Information Release Form (ages 18-30) | 1,831 | 1 | 1 | .16 | 292.96 | 10.15 | 2,973.54
Adult Child Survey (ages 18-30) | 1,831 | 1 | 1 | .25 | 457.75 | 10.15 | 4,625.86
Total |  |  |  |  | 5,813.95 |  | 43,571.39

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

C. Authority

Section 3507 of the Paperwork Reduction Act of 1995, 44 U.S.C. chapter 35 and title 42 U.S.C. 5424 note, title 13 U.S.C. Section 8(b), and title 12, U.S.C., section 1701z-1.

Todd M. Richardson,
General Deputy Assistant Secretary for Policy Development and Research.

[FR Doc. 2022-08847 Filed 4-25-22; 8:45 am]

BILLING CODE 4210-67-P